DEPARTMENT OF COMMERCE

Foreign-Trade Zones Board

[S-170-2023]

Foreign-Trade Zone 49; Application for Expansion of Subzone 49W; Getinge Group Logistics Americas LLC; East Windsor, New Jersey

An application has been submitted to the Foreign-Trade Zones (FTZ) Board by the Port Authority of New York and New Jersey, grantee of FTZ 49, requesting an expansion of Subzone 49W on behalf of Getinge Group Logistics Americas LLC (GGLA), located in East Windsor, New Jersey. The application was submitted pursuant to the provisions of the Foreign-Trade Zones Act, as amended (19 U.S.C. 81a-81u), and the regulations of the FTZ Board (15 CFR part 400). It was formally docketed on September 1, 2023.

The application requests authority to expand Subzone 49W to include the following new site: Site 2 (3.85 acres) 160 Princeton Hightstown Road, East Windsor, New Jersey. No authorization for production activity has been requested at this time. The subzone will be subject to the existing activation limit of FTZ 49.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is October 17, 2023. Rebuttal comments in response to material submitted during the foregoing period may be submitted during the subsequent 15-day period to November 1, 2023.

A copy of the application will be available for public inspection in the “Online FTZ Information Section” section of the FTZ Board's website, which is accessible via www.trade.gov/ftz.

For further information, contact Christopher Kemp at Christopher.Kemp@trade.gov.

Dated: September 1, 2023.
Elizabeth Whiteman,
Executive Secretary.

[FR Doc. 2023-19330 Filed 9-6-23; 8:45 am]

BILLING CODE 3510-DS-P